Proclamation 9560 of December 28, 2016

National Mentoring Month, 2017

By the President of the United States of America

A Proclamation

With every generation, our Nation has expanded the essential idea that no matter who you are or where you come from, America is a place where—with hard work and perseverance—you can make it if you try. Although obstacles and challenges along the way can be discouraging, the mentorship and support of others have always motivated our people to persevere—even in the toughest of times. At the start of each new year, we observe National Mentoring Month to honor the parents, families, teachers, coaches, and mentors who pour their time and their love into lifting up America's daughters and sons.

Nobody succeeds on their own: each young person's strength and resilience is fostered by those who have taught them they can do anything they put their mind to. Whether helping mentees study for a test, learn a new skill, or lift their heads up after a setback, mentors provide them the chance they need to move forward and set their sights even higher. And in helping mentees achieve their goals, mentors can inspire them to reach back and provide the same support to someone else in need of a mentor. To learn how you can mentor others and make a lasting difference, visit www.Serve.gov/Mentor.

In too many communities, many children still have the odds stacked against them, which is why my Administration has striven to increase mentorship opportunities across our country. Among other steps we have taken, we established the My Brother's Keeper initiative, which has inspired private organizations and communities in every State to address opportunity gaps and encourage mentorship as a tool for helping all young people reach their full potential. At the White House, we started our own mentee program and regularly met with local youth to provide leadership and guidance. And our efforts to bring higher education within reach for more Americans and expand apprenticeship initiatives have helped ensure more students can access the educational and career opportunities they need to thrive.

This month, we reflect on the transformative role mentorship can play and acknowledge the many ways that mentors have helped our next generation of leaders and innovators grow. As a Nation, we are stronger when every individual has the opportunity to contribute to our American story. By working to give each person a better chance at success, we can unlock their potential and empower them to serve others in the same way.

NOW, THEREFORE, I, BARACK OBAMA, President of the United States of America, by virtue of the authority vested in me by the Constitution and the laws of the United States, do hereby proclaim January 2017 as National Mentoring Month. I call upon public officials, business and community leaders, educators, and Americans across the country to observe this month with appropriate ceremonies, activities, and programs.

IN WITNESS WHEREOF, I have hereunto set my hand this twenty-eighth day of December, in the year of our Lord two thousand sixteen, and of the Independence of the United States of America the two hundred and forty-first.

[FR Doc. 2017-00040

Filed 1-4-17; 8:45 am]

Billing code 3295-F7-P